DEPARTMENT OF TRANSPORTATION

Federal Aviation Administration

14 CFR Part 71

[Docket No. FAA-2010-0003; Airspace Docket No. 09-ANE-104]

Modification of Jet Routes J-37 and J-55; Northeast United States

AGENCY: Federal Aviation Administration (FAA), DOT.

ACTION: Final rule.

SUMMARY: This action modifies Jet Routes J-37 and J-55 by terminating the routes at navigation aid facilities prior to the U.S./Canadian border. The FAA is taking this action to support the En Route Automation Modernization (ERAM) program.

DATES: Effective 0901 UTC, June 3, 2010. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

On Thursday, February 4, 2010, the FAA published in the Federal Register a notice of proposed rulemaking to modify jet routes J-37 and J-55 (75 FR 5704). Interested parties were invited to participate in this rulemaking effort by submitting written comments on the proposal. No comments were received.

Currently J-37 terminates at a point in space on the U.S./Canadian border rather than at a navigation aid facility or established navigation fix. Similarly, J-55 crosses the border at an undefined point in space and extends into Canadian airspace. These factors cause flight plan processing issues for ERAM. Terminating the routes at a navigation aid facility prior to the border will resolve these issues.

The Rule

The FAA is amending Title 14, Code of Federal Regulations (14 CFR) part 71 by terminating Jet Route J-37 at the Massena, NY, VHF omnidirectional range/tactical air navigation (VORTAC) facility; and terminating Jet Route J-55 at the Presque Isle, ME, VHF omnidirectional range/distance measuring equipment (VOR/DME) facility. This action will enhance the safety and management of aircraft operations within the National Airspace System.

Jet routes are published in paragraph 2004 of FAA Order 7400.9T dated August 27, 2009 and effective September 15, 2009, which is incorporated by reference in 14 CFR 71.1. The jet routes listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends a portion of the en route structure to enhance the safe and efficient use of the NAS in Florida.

Environmental Review

The FAA has determined that this action qualifies for categorical exclusion under the National Environmental Policy Act in accordance with FAA Order 1050.1E, “Environmental Impacts: Policies and Procedures,” paragraph 311a and 311b. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9T, Airspace Designations and Reporting Points, Dated August 27, 2009 and effective September 15, 2009, is amended as follows:

Paragraph 2004—Jet Routes

* * * * *

J-37 [Modified]

From Hobby, TX, via INT of the Hobby 090° and Harvey, LA, 266° radials; Harvey; Semmes,AL; Montgomery, AL; Spartanburg, SC; Lynchburg, VA; Gordonsville, VA; Brooke, VA; INT Brooke 067° and Coyle, NJ, 226° radials; to Coyle. From Kennedy, NY; Kingston, NY; Albany, NY; to Massena, NY.

* * * * *

J-55 [Modified]

From Dolphin, FL; INT Dolphin 331° and Gators, FL, 160° radials; INT Gators 160° and Craig, FL, 192° radials; Craig; INT Craig 004° and Savannah, GA, 193° radials; Savannah; Charleston, SC; Florence, SC; INT Florence 003° and Raleigh-Durham, NC, 224° radials; Raleigh-Durham; INT Raleigh-Durham 035° and Hopewell, VA, 234° radials; Hopewell; INT Hopewell 030° and Nottingham, MD, 174° radials. From Sea Isle, NJ; INT Sea Isle 050°and Hampton, NY, 223° radials; Hampton; Providence, RI; Boston, MA; Kennebunk, ME; to Presque Isle, ME.

Issued in Washington, DC, on April 8, 2010.
Edith V. Parish,
Manager, Airspace and Rules Group.

[FR Doc. 2010-8830 Filed 4-20-10; 8:45 am]

BILLING CODE 4910-13-P